SOCIAL SECURITY ADMINISTRATION

[Docket No. SSA-2010-0078]

Revised Medical Criteria for Evaluating Visual Disorders

AGENCY: Social Security Administration.

ACTION: Final rules; Correction.

SUMMARY: The Social Security Administration published a document in the Federal Register of March 28, 2013, in FR Doc. 2013-06975, on page 18842, in the second column, under c., in the equation in the last sentence, replace “−16√” with “|−16|”.

Dated: April 26, 2013.
Paul Kryglik,
Director, Office of Regulations, Social Security Administration.

[FR Doc. 2013-10283 Filed 4-30-13; 8:45 am]

BILLING CODE 4191-02-P